SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before November 23, 2020.

ADDRESSES: Comments should refer to the information collection by title and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

Copies: You may obtain a copy of the information collection and supporting documents from the Agency Clearance Officer.

SUPPLEMENTARY INFORMATION: The U.S. Small Business Administration's (SBA) statutory mission is to “aid, counsel, assist and protect, insofar as is possible, the interests of small business concerns.” The Agency's Office of Entrepreneurial Development (OED) carries out this mission by providing training and counseling programs through its Resource Partners (such as SCORE, Small Business Development Centers (SBDCs), Women's Business Centers (WBCs) and Veterans Business Outreach Centers (VBOCs)) to existing and prospective small businesses and entrepreneurs. These programs are funded by cooperative agreements.

Solicitation of Public Comments: Comments may be submitted on (a) whether the collection of information is necessary for the agency to properly perform its functions; (b) whether the burden estimates are accurate; (c) whether there are ways to minimize the burden, including through the use of automated techniques or other forms of information technology; and (d) whether there are ways to enhance the quality, utility, and clarity of the information.

Title: Entrepreneurial Development Management Information System (EDMIS), Counseling Information Form and Management Training Report.

OMB Control Number: 3245-0324.

Description of Respondents: Entrepreneurs and potential entrepreneurs.

Estimated Annual Responses: 340,364.

Estimated Annual Hour Burden: 88,762.

Curtis Rich,
Management Analyst.

[FR Doc. 2020-23424 Filed 10-21-20; 8:45 am]

BILLING CODE 8026-03-P